Proclamation 10109 of October 30, 2020

National Adoption Month, 2020

By the President of the United States of America

A Proclamation

For children, parents, and families, adoption paves the way for new beginnings and provides children with a forever family who can help them reach their full potential. During National Adoption Month, we recognize birth families who make the difficult decision to place their children up for adoption, commend foster parents who care for children from different backgrounds, and celebrate adoptive parents who open their families to those children in need.

All children deserve a stable home with parents and families who can ensure their well-being. Sadly, last year, 153,258 children were placed in the foster care system due to neglect, and 86,694 children were removed from their homes due to drug abuse. My Administration is committed to addressing the causes of child abuse and neglect, bringing healing to families who are struggling with addiction, and expanding the avenues for adoption. Additionally, we are continuing our efforts to strengthen families and prevent abuse and neglect to help ensure that children are able to remain with birth parents whenever possible. These efforts include unprecedented action to end the opioid crisis in our country, increased funding and oversight of the foster care system, and opening more adoption channels to faith-based adoption and foster care providers. Additionally, the Department of Health and Human Services is now providing States with guidance regarding the use of Federal funds to support the legal representation of parents and children in family legal proceedings. The good news is that the number of children entering foster care is declining and the number of adoptions last year was the highest on record.

Nevertheless, those still in the foster care system often have to wait too long for adoption—sometimes 2 years or more. Even worse, thousands of children age out of foster care without finding a forever family, with profound and unacceptable consequences. Of those young Americans who age out of foster care, 40 percent experience homelessness, 50 percent are unemployed at age 24, and 25 percent experience post-traumatic stress. To help solve this problem, in June, I signed an Executive Order on Strengthening the Child Welfare System for America's Children. This order prioritizes the partnerships between private, public, and faith-based organizations to keep American families together and, when that is not possible, to find children forever families. It also provides resources for trauma training, support for guardianship, and kinship care for those who age out of foster care. Additionally, through her “Be Best” initiative, the First Lady continues to advocate for a safe, forever family for every child.

Adoption also offers a loving option for women who experience unexpected pregnancies or are unable to provide for their children. Every year, countless families—including many who cannot have children of their own—cherish the priceless gift of an adopted child. My Administration believes that every human life has inherent value, and encourages adoption as an alternative to abortion. All children, born and unborn, deserve a chance to have a better, more prosperous future. I commend the selfless men and women who preserve the majesty of God's creation by providing children with a chance at a better life.

This month, we celebrate the blessings of adoption and renew our resolve to promote a culture of respect for every human life. Countless Americans dedicate their time, energy, and resources to the adoption process, and we honor their selfless contributions as community members, faith leaders, caregivers, role models, and families. Our Nation is strengthened by the sacred institution of the family, and devoted parents who love and protect their adopted children. As a Nation, let us commit to ensuring a brighter future for all of our Nation's children.

NOW, THEREFORE, I, DONALD J. TRUMP, President of the United States of America, by virtue of the authority vested in me by the Constitution and the laws of the United States, do hereby proclaim November 2020 as National Adoption Month. I encourage all Americans to observe this month by helping children and youth in need of a permanent home secure a more promising future with a forever family and enter adulthood with the love and connections we all need.

IN WITNESS WHEREOF, I have hereunto set my hand this thirtieth day of October, in the year of our Lord two thousand twenty, and of the Independence of the United States of America the two hundred and forty-fifth.

[FR Doc. 2020-24738

Filed 11-4-20; 8:45 am]

Billing code 3295-F1-P